SECURITIES AND EXCHANGE COMMISSION

[OMB Control No. 3235-0107]

Proposed Collection; Comment Request; Extension: Form T-4—Application for Exemption

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) is soliciting comments on the collection of information summarized below. The Commission plans to submit this existing collection of information to the Office of Management and Budget for extension and approval.

Form T-4 (17 CFR 269.4) is a form used by an issuer to apply for an exemption under Section 304(c) (15 U.S.C. 77ddd (c)) of the Trust Indenture Act of 1939 (77 U.S.C. 77aaa et seq.). We estimate that Form T-4 takes approximately 5 hours per response to prepare and is filed by approximately 3 respondents annually. We estimate that 20% of the 5 burden hours (1 hour per response) is prepared by the filer for a total annual reporting burden of 3 hours (1 hour per response × 3 responses annually). We estimate that 80% of the 5 burden hours (4 hours per response) is carried by outside professionals retained by the filer to assist in the preparation of the form, at an estimated cost of $600 per hour, for a total annual cost burden of $7,200 (4 hours per response × $600 per hour × 3 responses annually).

An agency may not conduct or sponsor, and a person is not required to respond to, a collection of information unless it displays a currently valid OMB Control Number.

Written comments are invited on: (a) whether this proposed collection of information is necessary for the proper performance of the functions of the SEC, including whether the information will have practical utility; (b) the accuracy of the SEC's estimate of the burden imposed by the proposed collection of information, including the validity of the methodology and the assumptions used; (c) ways to enhance the quality, utility, and clarity of the information to be collected; and (d) ways to minimize the burden of the collection of information on respondents, including through the use of automated, electronic collection techniques or other forms of information technology.

Please direct your written comment to Austin Gerig, Director/Chief Data Officer, Securities and Exchange Commission, c/o Tanya Ruttenberg, 100 F Street NE, Washington, DC 20549 and send it by email to PaperworkReductionAct@sec.gov by August 4, 2025.

Dated: May 29, 2025.
J. Matthew DeLesDernier,
Deputy Secretary.

[FR Doc. 2025-10095 Filed 6-3-25; 8:45 am]

BILLING CODE 8011-01-P